DEPARTMENT OF AGRICULTURE

Animal and Plant Health Inspection Service

[Docket No. APHIS-2013-0044]

Environmental Impact Statement; Animal Carcass Management

AGENCY: Animal and Plant Health Inspection Service, USDA.

ACTION: Notice of intent to prepare an environmental impact statement and proposed scope of study; reopening of comment period.

SUMMARY: We are reopening the comment period for our notice of intent to prepare an environmental impact statement to examine the potential environmental effects of animal carcass management options used throughout the United States. This action will allow interested persons additional time to prepare and submit comments.

DATES: We will consider all comments that we receive on or before January 30, 2014.

ADDRESSES: You may submit comments by either of the following methods:

• Federal eRulemaking Portal: Go to http://www.regulations.gov/#!documentDetail;D=APHIS-2013-0044-0001.

• Postal Mail/Commercial Delivery: Send your comment to Docket No. APHIS-2013-0044, Regulatory Analysis and Development, PPD, APHIS, Station 3A-03.8, 4700 River Road Unit 118, Riverdale, MD 20737-1238.

Supporting documents and any comments we receive on this docket may be viewed at http://www.regulations.gov/#!docketDetail;D=APHIS-2013-0044 or in our reading room, located in Room 1141 of the USDA South Building, 14th Street and Independence Avenue SW., Washington, DC. Reading room hours are 8 a.m. to 4:30 p.m., Monday through Friday, except holidays. To be sure someone is there to help you, please call (202) 7997039 before coming.

FOR FURTHER INFORMATION CONTACT: For questions related to the carcass management program, contact Ms. Lori P. Miller, PE, Senior Staff Officer, National Center for Animal Health Emergency Management, VS, APHIS, 4700 River Road Unit 41, Riverdale, MD 20737; (301) 851-3512. For questions related to the environmental impact statement, contact Ms. Samantha Floyd, Environmental Protection Specialist, Environmental and Risk Analysis Services, PPD, APHIS, 4700 River Road Unit 149, Riverdale, MD 20737; (301) 851-3053.

SUPPLEMENTARY INFORMATION:

Background

On October 25, 2013, the Animal and Plant Health Inspection Service published in the Federal Register (78 FR 63959-63960, Docket No. APHIS-2013-0044) a notice ¹ stating our intent to prepare an environmental impact statement (EIS) to examine the potential environmental effects of animal carcass management options used throughout the United States. The EIS will analyze and compare all major and readily available mass carcass management options that may be utilized during an animal health emergency.

¹ To view the notice, supporting documents, and the comments we received, go to http://www.regulations.gov/#!docketDetail;D=APHIS-2013-0044.

Comments on the notice were required to be received on or before November 25, 2013. We are reopening the comment period on Docket No. APHIS-2013-0044 for an additional 30 days. This action will allow interested persons additional time to prepare and submit comments. We will also consider all comments received between November 26, 2013 and the date of this notice.

All comments received during the scoping period will be carefully considered in developing the final scope of the EIS. Upon completion of the draft EIS, a notice announcing its availability and an opportunity to comment on it will be published in the Federal Register.

Authority: 7 U.S.C. 8301-8317; 7 CFR 2.22, 2.80, and 371.4.

Done in Washington, DC, this 20th day of December 2013 .
Kevin Shea,
Administrator, Animal and Plant Health Inspection Service.

[FR Doc. 2013-31194 Filed 12-30-13; 8:45 am]

BILLING CODE 3410-34-P